DEPARTMENT OF ENERGY

Federal Energy Regulatory Commission

[Project No. 4784-082]

Brown Bear Power, LLC, Topsham Hydroelectric Generating Facility Trust No. 1, Topsham Hydro Partners Limited Partnership; Notice of Application for Partial Transfer of License, and Soliciting Comments and Motions To Intervene

On August 3, 2011, Brown Bear Power, LLC, Topsham Hydroelectric Generating Facility (Trust No. 1), and Topsham Hydro Partners Limited Partnership (THP), co-licensees of the Pejepscot Project No. 4784, filed an application for the partial transfer of license for the Pejepscot Project, located on the Androscoggin River in Sagadahoc, Cumberland, and Androscoggin Counties, Maine.

Applicants seek Commission approval for a partial transfer of the license for the Pejescot Project from Brown Bear, Trust No. 1, and THP, jointly, to THP, solely. As proposed, following the transfer THP will be the sole licensee of the Pejepscot Project.

Applicants' Contacts: Nicole Poole, Topsham Hydroelectric Generating Facilities Trust No. 1, 300 Delaware Avenue, 9th floor, Wilmington, DE 19801, (302) 576-3704; Christine M. Miller, Brown Bear Power LLC, 200 Clarendon Street 55th Floor, Boston MA 02116, (617) 531-6338; Christine M. Miller, Topsham Hydro Partners Limited Partnership, 200 Clarendon Street 55th Floor, Boston MA 02116.

FERC Contact: Krista Sakallaris (202) 502-6302, krista.sakallaris@ferc.gov.

Deadline for filing comments and motions to intervene: 15 days from the issuance date of this notice. Comments and motions to intervene may be filed electronically via the Internet. See 18 CFR 385.2001(a) (1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street, NE., Washington, DC 20426. More information about this project can be viewed or printed on the eLibrary link of Commission's Web site at http://www.ferc.gov/docs-filing/elibrary.asp. Enter the docket number (P-4784) in the docket number field to access the document. For assistance, call toll-free 1-866-208-3372.

Dated: August 12, 2011.
Kimberly D. Bose,
Secretary.

[FR Doc. 2011-21160 Filed 8-18-11; 8:45 am]

BILLING CODE 6717-01-P